DEPARTMENT OF COMMERCE

International Trade Administration

[A-201-836]

Light-Walled Rectangular Pipe and Tube From Mexico: Amended Final Results of Antidumping Duty Administrative Review; 2017-2018

AGENCY: Enforcement and Compliance, International Trade Administration, Department of Commerce.

SUMMARY: The Department of Commerce (Commerce) is amending the final results of the administrative review of the antidumping duty (AD) order on light-walled rectangular pipe and tube from Mexico to correct a ministerial error.

DATES: Applicable May 27, 2020.

FOR FURTHER INFORMATION CONTACT: Samuel Brummitt or John Conniff, AD/CVD Operations, Office III, Enforcement and Compliance, International Trade Administration, U.S. Department of Commerce, 1401 Constitution Avenue NW, Washington, DC 20230; telephone: (202) 482-7851 or (202) 482-1009, respectively.

SUPPLEMENTARY INFORMATION:

Background

On April 20, 2020, the Department of Commerce (Commerce) published its Final Results of the 2017-2018 administrative review of the antidumping duty order on light-walled rectangular pipe and tube from Mexico.¹ On April 30, 2020, Maquilacero S.A. de C.V. (Maquilacero), one of the respondents in this administrative review, timely submitted comments alleging a ministerial error in Commerce's Final Results.² Commerce is issuing this notice to correct the ministerial error raised by Maquilacero.

¹ See Light-Walled Rectangular Pipe and Tube from Mexico: Final Results of Antidumping Duty Administrative Review and Final Determination of No Shipments; 2017-2018, 85 FR 21829 (April 20, 2020) (Final Results).

² See Maquilacero's Letter, “Light-Walled Rectangular Pipe and Tube from Mexico; Maquilacero S.A. de C.V.'s Ministerial Error Comments for the Final Results,” dated April 30, 2020.

Commerce is also issuing this notice to correct an inadvertent error in the Final Results related to Hylsa S.A. de C.V. (Hylsa), a non-examined respondent in this administrative review. Specifically, Commerce granted a non-examined rate to Hylsa as well as to Ternium Mexico S.A. de C.V. (Ternium); however, Commerce failed to take into account the completion of a changed circumstances review on the antidumping duty order on light-walled rectangular pipe and tube from Mexico.³ In the changed circumstances review, Commerce determined that Ternium is the successor-in-interest to Hylsa.⁴ As such, effective August 18, 2009, Hylsa is entitled to Ternium's antidumping duty cash deposit rate with respect to entries of subject merchandise, and only Ternium should have been assigned a non-examined rate in the Final Results.

³ See Final Results of Antidumping Duty Changed Circumstances Review: Light-Walled Rectangular Pipe and Tube from Mexico, 74 FR 41680 (August 18, 2009).

⁴ Id.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁵ With respect to final results of administrative reviews, 19 CFR 351.224(e) provides that Commerce “will analyze any comments received and, if appropriate, correct any ministerial error by amending . . . the final results of review. . . .”

⁵ See 19 CFR 351.224(f).

Ministerial Error

Commerce committed an inadvertent, unintentional error within the meaning of section 751(h) of the Act and 19 CFR 351.224(f) with respect to an adjustment to Maquilacero's total cost of manufacturing. Specifically, when reallocating certain costs for Maquilacero's non-prime merchandise to its prime merchandise, we inadvertently relied upon a production quantity that included out-of-scope merchandise, and therefore overstated the adjustment to Maquilacero's total cost of manufacturing for prime, in-scope merchandise. Accordingly, Commerce determines that, in accordance with section 751(h) of the Act and 19 CFR 351.224(f), it made a ministerial error in the Final Results. Pursuant to 19 CFR 351.224(e), Commerce is amending the Final Results to reflect the correction of this ministerial error in the calculation of the final weighted-average dumping margin assigned to Maquilacero, which changes from 3.12 percent to 2.82 percent.⁶ Furthermore, we are revising the review-specific weighted-average dumping margin applicable to the companies not selected for individual examination in this administrative review, which is based, in part, on Maquilacero's weighted-average dumping margin.

⁶ See Memorandum, “Ministerial Error Memorandum for the Final Results of the 2017-2018 Antidumping Duty Administrative Review of Light-Walled Rectangular Pipe and Tube from Mexico,” dated concurrently with this notice.

Amended Final Results of the Review

As a result of correcting the ministerial error and the inadvertent error described above, Commerce determines that, for the period of August 1, 2017 through July 31, 2018, the following weighted-average dumping margins exist:

⁷ See Light-Walled Rectangular Pipe and Tube from Mexico: Initiation and Expedited Preliminary Results of Changed Circumstances Review, 82 FR 54322 (November 17, 2017), unchanged in Light-Walled Rectangular Pipe and Tube from Mexico: Final Results of Changed Circumstances Review, 83 FR 13475 (March 29, 2018) (determining that Perfiles LM, S.A. de C.V. is the successor-in-interest to Perfiles y Herrajes).

⁸ The weighted-average dumping margin for Regiomontana de Perfiles y Tubos S.A. de C.V.'s (Regiopytsa), another mandatory respondent in this review, is unchanged from the Final Results.

Producer and/or exporter | Weighted- average dumping margin (percent)
Aceros Cuatro Caminos S.A. de C.V | 3.17
Arco Metal S.A. de C.V | 3.17
Galvak, S.A. de C.V | 3.17
Grupo Estructuras y Perfiles | 3.17
Industrias Monterrey S.A. de C.V | 3.17
International de Aceros, S.A. de C.V | 3.17
Maquilacero S.A. de C.V | 2.82
Nacional de Acero S.A. de C.V | 3.17
PEASA-Productos Especializados de Acero | 3.17
Perfiles LM, S.A. de C.V.⁷ | 3.17
Productos Laminados de Monterrey S.A. de C.V | 3.17
Regiomontana de Perfiles y Tubos S.A. de C.V | ⁸ 3.40
Talleres Acero Rey S.A. de C.V | 3.17
Ternium Mexico S.A. de C.V | 3.17
Tuberia Laguna, S.A. de C.V | 3.17
Tuberias Aspe | 3.17
Tuberias y Derivados S.A de C.V | 3.17

Disclosure

We intend to disclose the calculation performed for these amended final results in accordance with 19 CFR 351.224(b).

Antidumping Duty Assessment

Pursuant to section 751(a)(2)(C) of the Act and 19 CFR 351.212(b)(1), Commerce has determined, and U.S. Customs and Border Protection (CBP) shall assess, antidumping duties on all appropriate entries of subject merchandise in accordance with these amended final results of the administrative review. In accordance with 19 CFR 351.212(b)(1), Maquilacero reported the entered value of its U.S. sales such that we calculated importer-specific ad valorem antidumping duty assessment rates based on the ratio of the total amount of dumping calculated for the examined sales for each importer to the total entered value of the sales for each importer for which entered value was reported. Where an importer-specific rate is zero or de minimis within the meaning of 19 CFR 351.106(c)(1), Commerce will instruct CBP to liquidate the appropriate entries without regard to antidumping duties.

For the companies which were not selected for individual examination, we will instruct CBP to assess antidumping duties at an ad valorem assessment rate equal to the weighted-average dumping margin determined in these amended final results. The amended final results of this review shall be the basis for the assessment of antidumping duties on entries of merchandise covered by the amended final results of this review and for future deposits of estimated duties, where applicable.⁹

⁹ See section 751(a)(2)(C) of the Act.

Commerce's “automatic assessment” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

Cash Deposit Requirements

The following cash deposit requirements will be effective retroactively for all shipments of subject merchandise that entered, or withdrawn from warehouse, for consumption on or after April 20, 2020, the date of publication of the Final Results of this administrative review, as provided for by section 751(a)(2)(C) of the Act: (1) The cash deposit rate for the companies listed above will be equal to the weighted-average dumping margin established in these amended final results of review; (2) for producers or exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 3.76 percent established in the amended final determination of the less-than-fair-value investigation.¹¹ These cash deposit requirements, when imposed, shall remain in effect until further notice.

¹¹ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of doubled antidumping duties.

Administrative Protective Order

This notice also serves as a reminder to parties subject to administrative protective orders (APO) of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

The amended final results and notice are issued and published in accordance with sections 751(h) and 777(i) of the Act and 19 CFR 351.224(e).

Dated: May 20, 2020.
Jeffrey I. Kessler,
Assistant Secretary for Enforcement and Compliance.

[FR Doc. 2020-11324 Filed 5-26-20; 8:45 am]

BILLING CODE 3510-DS-P